DEPARTMENT OF TRANSPORTATION

Federal Aviation Administration

14 CFR Part 39

[Docket No. FAA-2018-0462; Product Identifier 2018-CE-017-AD; Amendment 39-19292; AD 2018-11-04]

RIN 2120-AA64

Airworthiness Directives; Aircraft Industries a.s. Airplanes

AGENCY: Federal Aviation Administration (FAA), DOT.

ACTION: Final rule; request for comments.

SUMMARY: We are adopting a new airworthiness directive (AD) for Aircraft Industries a.s. Models L 410 UVP-E20 and L 410 UVP-E20 CARGO airplanes. This AD results from mandatory continuing airworthiness information (MCAI) issued by the aviation authority of another country to identify and correct an unsafe condition on an aviation product. The MCAI describes the unsafe condition as un-commanded negative thrust mode activated on an engine. We are issuing this AD to require actions to address the unsafe condition on these products.

DATES: This AD is effective June 27, 2018.

The Director of the Federal Register approved the incorporation by reference of certain publications listed in the AD as of June 27, 2018.

We must receive comments on this AD by July 23, 2018.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this AD, contact Aircraft Industries, a.s., 686 04 Kunovice 1177, Czech Republic; phone: +420 572 817 664; fax: +420 572 816 112; email: pps@let.cz; internet: http://www.let.cz/clanek_267_objednavka-bulletinove-sluzby.html. You may review copies of the referenced service information at the FAA, Policy and Innovation Division, 901 Locust, Kansas City, Missouri 64106. For information on the availability of this material at the FAA, call (816) 329-4148. It is also available on the internet at http://www.regulations.gov by searching for locating Docket No. FAA-2018-0462.

Examining the AD Docket

You may examine the AD docket on the internet at http://www.regulations.gov by searching for and locating Docket No. FAA-2018-0462; or in person at Docket Operations between 9 a.m. and 5 p.m., Monday through Friday, except Federal holidays. The AD docket contains this AD, the regulatory evaluation, any comments received, and other information. The street address for Docket Operations (telephone (800) 647-5527) is in the ADDRESSES section. Comments will be available in the AD docket shortly after receipt.

FOR FURTHER INFORMATION CONTACT: Doug Rudolph, Aerospace Engineer, FAA, Small Airplane Standards Branch, 901 Locust, Room 301, Kansas City, Missouri 64106; telephone: (816) 329-4059; fax: (816) 329-4090; email: doug.rudolph@faa.gov.

SUPPLEMENTARY INFORMATION:

Discussion

The European Aviation Safety Agency (EASA), which is the Technical Agent for the Member States of the European Community, has issued AD No. 2018-0057, dated March 14, 2018 (referred to after this as “the MCAI”), to correct an unsafe condition for Aircraft Industries a.s. Models L 410 UVP-E20 and L 410 UVP-E20 CARGO airplanes and was based on mandatory continuing airworthiness information (MCAI) originated by an aviation authority of another country. The MCAI states:

The investigation results of an L 410 UVP-E20 accident identified that, during final approach, an un-commanded negative thrust mode was activated on the right-hand engine. Pending the investigation results of the accident, as a preliminary measure, EASA issued SIB 2017-21, recommending operators to check the components of engine and propeller control system, including the beta switch, in accordance with the instructions of Revision 1 of AI SB L410UVP-E/492b.

This condition, if not corrected, could lead to reduced or loss of control of an aeroplane.

To address this unsafe condition, AI issued the MB, providing modification instructions, and issued the DB, amending the Aircraft Flight Manual (AFM), providing instructions for the flight crew in case of inadvertent beta range cell activation in flight and introducing instructions for the flight crew to check the function of pitch lock system before each flight.

For the reasons described above, this [EASA] AD requires modification of the electrical testing circuit of the propeller pitch lock system and amendment of the applicable AFM.

EASA SIB 2017-21 has been withdrawn accordingly. You may examine the MCAI on the internet at http://www.regulations.gov by searching for and locating Docket No. FAA-2018-0462.

Related Service Information Under 1 CFR Part 51

Aircraft Industries a.s. has issued LET Aircraft Industries Mandatory Bulletin MB No. L410UVP-E/143a, Revision 2, dated March 7, 2018; and LET Aircraft Industries Documentation Bulletin DB No. L410UVP-E/268d, dated May 9, 2018. Mandatory Bulletin MB No. L410UVP-E/143a describes procedures for modifying the electrical circuit of the propeller pitch lock system function test. Documentation Bulletin DB No. L410UVP-E/268d provides instructions for flight crew in case of inadvertent beta range cell activation in flight and instructions for a pre-flight check of the function of the pitch lock system. This service information is reasonably available because the interested parties have access to it through their normal course of business or by the means identified in the ADDRESSES section.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

FAA's Determination of the Effective Date

An unsafe condition exists that requires the immediate adoption of this AD. The FAA has found that the risk to the flying public justifies waiving notice and comment prior to adoption of this rule because there are no airplanes currently on the U.S. registry and thus, does not have any impact upon the public. Therefore, we find good cause that notice and opportunity for prior public comment are unnecessary. In addition, for the reason(s) stated above, we find that good cause exists for making this amendment effective in less than 30 days.

Difference Between the MCAI and This AD

The MCAI requires the AFM changes in accordance with DB No.: L410UVP-E/247d and DB No.: L410UVP-E/259d, both dated March 3, 2018. These documents only apply to airplanes operated under the European type certificate and do not apply to those airplanes operating under the FAA type certificate. Therefore, Aircraft Industries a.s. developed DB No.: L410UVP-E/268d, dated May 9, 2018, and this AD requires the AFM changes in accordance with this document.

Comments Invited

This AD is a final rule that involves requirements affecting flight safety, and we did not precede it by notice and opportunity for public comment. We invite you to send any written relevant data, views, or arguments about this AD. Send your comments to an address listed under the ADDRESSES section. Include “Docket No. FAA-2018-0462; Product Identifier 2018-CE-017-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 0 products of U.S. registry. We also estimate that it would take about 9 work-hours per product to comply with the basic requirements of this AD. The average labor rate is $85 per work-hour. Required parts would cost about $2,000 per product.

Based on these figures, we estimate the cost of the AD on U.S. operators to be $0 fleet cost, but $2,765 per product if a product is registered on the U.S. registry.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2018-11-04 Aircraft Industries a.s.: Amendment 39-19292; Docket No. FAA-2018-0462; Product Identifier 2018-CE-017-AD.

(a) Effective Date

This airworthiness directive (AD) becomes effective June 27, 2018.

(b) Affected ADs

None.

(c) Applicability

This AD applies to the following Aircraft Industries a.s. Models L 410 UVP-E20 and L 410 UVP-E20 CARGO airplanes, manufacturer serial numbers 2904 through 3114, that are:

(1) Equipped with GE Aviation H80-200 engines and Avia Propeller AV 725 propellers; and

(2) certificated in any category.

(d) Subject

Air Transport Association of America (ATA) Code 61: Propellers/Propulsors.

(e) Reason

This AD was prompted by mandatory continuing airworthiness information (MCAI) issued by the aviation authority of another country to identify and correct an unsafe condition on an aviation product. The MCAI describes the unsafe condition as un-commanded negative thrust mode activated on an engine. We are issuing this AD to provide guidance to the flight crew in the event of un-commanded negative thrust mode activated on an engine, which could lead to loss of control.

(f) Actions and Compliance

Unless already done, do the following actions.

(1) Within the next 25 hours time-in-service (TIS) after the effective date of this AD or within the next 30 days after the effective date of this, whichever occurs first, modify the electrical testing circuit of the propeller pitch lock system following the Instructions for Implementation in LET Aircraft Industries Mandatory Bulletin MB No. L410UVP-E/143a, Revision 2, dated March 7, 2018.

(2) Within the next 25 hours TIS after the effective date of this AD or within the next 30 days after the effective date of this, whichever occurs first, incorporate airplane flight manual (AFM) changes following the Measures specified in LET Aircraft Industries Documentation Bulletin DB No. L410UVP-E/268d, dated May 9, 2018. After incorporating the AFM changes, operate the airplane accordingly.

(3) If any discrepancies are found during any pitch lock system pre-flight check required in the AFM changes specified in paragraph (f)(2) of this AD, before further flight, contact the manufacturer for FAA-approved repair instructions approved specifically for this AD. You may use the contact information found in paragraph (i)(3) of this AD.

(g) Other FAA AD Provisions

The following provisions also apply to this AD:

(1) Alternative Methods of Compliance (AMOCs): The Manager, Small Airplane Standards Branch, FAA, has the authority to approve AMOCs for this AD, if requested using the procedures found in 14 CFR 39.19. Send information to ATTN: Doug Rudolph, Aerospace Engineer, FAA, Small Airplane Standards Branch, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer, the action must be accomplished using a method approved by the Manager, Small Airplane Standards Branch, FAA; or the European Aviation Safety Agency (EASA).

(h) Related Information

Refer to MCAI EASA AD No. 2018-0057, dated March 14, 2018, for related information. You may examine the MCAI on the internet at http://www.regulations.gov by searching for and locating Docket No. FAA-2018-0462.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) LET Aircraft Industries Mandatory Bulletin MB No. L410UVP-E/143a, Revision 2, dated March 7, 2018.

(ii) LET Aircraft Industries Documentation Bulletin DB No. L410UVP-E/268d, dated May 9, 2018.

(3) For service information identified in this AD, contact Aircraft Industries, a.s., 686 04 Kunovice 1177, Czech Republic; phone: +420 572 817 664; fax: +420 572 816 112; email: pps@let.cz; internet: http://www.let.cz/clanek_267_objednavka-bulletinove-sluzby.html.

(4) You may view this service information at FAA, Policy and Innovation Division, 901 Locust, Kansas City, Missouri 64106. For information on the availability of this material at the FAA, call (816) 329-4148. It is also available on the internet at http://www.regulations.gov by searching for locating Docket No. FAA-2018-0462.

(5) You may view this service information that is incorporated by reference at the National Archives and Records Administration (NARA). For information on the availability of this material at NARA, call 202-741-6030, or go to: http://www.archives.gov/federal-register/cfr/ibr-locations.html.

Issued in Kansas City, Missouri, on May 11, 2018.
Melvin J. Johnson,
Aircraft Certification Service, Deputy Director, Policy and Innovation Division, AIR-601.

[FR Doc. 2018-11930 Filed 6-6-18; 8:45 am]

BILLING CODE 4910-13-P